PRESIDIO TRUST

Presidio Trust Management Plan Main Post Update Supplemental Environmental Impact Statement

AGENCY: The Presidio Trust.

ACTION: Notice of Intent to Prepare a Supplement to a Draft Environmental Impact Statement.

SUMMARY: Pursuant to section 102(2)(c) of the National Environmental Policy Act (NEPA) of 1969, as amended (Pub. L. 91-190, 42 U.S.C. 4321 et seq.) and in response to public comment, the Presidio Trust (Trust) is notifying interested parties that it will supplement the June 2008 Draft Supplemental Environmental Impact Statement (SEIS) for the Presidio Trust Management Plan (PTMP) Main Post Update. The supplement will identify and discuss the environmental impacts of a preferred alternative that combines elements of alternatives previously analyzed in the draft SEIS.

SUPPLEMENTARY INFORMATION: The Trust is updating the planning concept for the Main Post district of the Presidio of San Francisco (Presidio) in order to take into account several proposals, including the Contemporary Art Museum at the Presidio (CAMP), the Main Post Lodge and the Presidio Theatre, that were not fully contemplated in the 2002 PTMP and its final environmental impact statement. The updated planning concept for the Main Post was evaluated as the proposed action in the draft SEIS that was circulated on June 13, 2008 (73 FR 33814).

Concurrent with the draft SEIS analyses, the Trust is also providing for the review of the proposals under other federal environmental laws. Chief among these is the consultation process required by section 106 of the National Historic Preservation Act (NHPA). This process identifies the historic resources that may be affected by an undertaking, assesses the effects on historic resources through a Finding of Effect (FOE), and then explores ways to “avoid, minimize, or mitigate” the effects identified in the FOE. The draft FOE was circulated for comment on August 8, 2008. The draft SEIS and draft FOE are available at http://www.Presidio.gov in the Major Projects section.

Following the release of the draft SEIS and the draft FOE, the Trust has been working with the National Park Service, the State Historic Preservation Officer, and the Advisory Council on Historic Preservation to develop approaches that would avoid, minimize, or mitigate effects from the various proposals on the National Historic Landmark District. These approaches include ways to reduce building size, scale, and mass; ways to orient the buildings to the site; and ways to articulate the buildings with architectural features. The Trust shared the results of this work with the consulting parties in the NHPA consultation and the proponents' respective design teams, and also held a public workshop on November 19, 2008 to communicate these conforming strategies to interested individuals. The information, presented as a series of matrices, is available for public review on the Trust Web site at http://library.presidio.gov/archive/documents/StandardsEvaluationMatrix.pdf.

Additionally, the Trust conducted a series of three workshops with the public on September 25, September 28 and October 2, 2008 that focused on the development of a preferred alternative. Through this public process, the Trust has identified a preferred alternative that combines elements of the previously analyzed alternatives, and which will be the subject of the supplement. The Trust has elected to address the preferred alternative in a supplement to the draft SEIS to best integrate and satisfy its NEPA and NHPA requirements. Additional information on the preferred alternative is available at http://www.Presidio.gov (click on Presidio Trust Identifies a Preferred Alternative). Interested parties wishing to provide comments on the previously analyzed alternatives or the merits of the draft SEIS may continue to do so, or wait until the supplement is made available.

The Trust will file the supplement as a draft and will circulate it at the same time that a revised draft FOE will be circulated through the parallel NHPA section 106 consultation process. The availability of the supplement (expected to occur in early 2009) for public and agency review and comment will be announced through an EPA-published notice in the Federal Register, in the Trust's regular electronic newsletter (Presidio E-news), on the Trust web site, as well as direct mailing to the project mailing list and other appropriate means. Both the draft supplement and the revised draft FOE will be considered in a final SEIS before the Trust Board of Directors takes any action (no earlier than 30 days after release of the final SEIS).

FOR FURTHER INFORMATION CONTACT: John Pelka, 415.561.5300.

Dated: December 8, 2008.
Karen A. Cook,
General Counsel.

[FR Doc. E8-29447 Filed 12-11-08; 8:45 am]

BILLING CODE 4310-4R-P